FEDERAL COMMUNICATIONS COMMISSION

47 CFR Part 27

[GN Docket No. 18-122; FCC 20-22; FRS 16812]

Expanding Flexible Use of the 3.7 to 4.2 GHz Band; Correction

AGENCY: Federal Communications Commission.

ACTION: Final rule; announcement of compliance date; correction.

SUMMARY: The Federal Communications Commission (Commission) is correcting the compliance date announced in a document that appeared in the Federal Register on May 27, 2020. The document announced that the Office of Management and Budget (OMB) had approved the information collection requirements associated with the eligible space station operator accelerated relocation election, eligible space station operator transition plan, and incumbent earth station lump sum payment election rules adopted in the Commission's 3.7 GHz Report and Order, FCC 20-22, and that compliance with the new rules is now required. This document corrects the effective and compliance dates for these new information collection requirements.

DATES: June 25, 2020.

FOR FURTHER INFORMATION CONTACT: Anna Gentry, Mobility Division, Wireless Telecommunications Bureau, at (202) 418-7769 or Anna.Gentry@fcc.gov.

SUPPLEMENTARY INFORMATION:

Correction

In FR Doc. 2020-10167 appearing on page 31704 in the Federal Register of Wednesday, May 27, 2020, the following corrections are made:

1. On page 31704, in the third column, the DATES section is corrected to read:

DATES: Compliance date: Compliance with 47 CFR 27.1412(c) introductory text, (c)(2), 27.1412(d) introductory text and (d)(1), and 27.1419, published at 85 FR 22804 on April 23, 2020, is required on June 22, 2020.

2. On page 31704, in the third column, the first and second paragraphs in the SUPPLEMENTARY INFORMATION section are corrected to read:

“This document announces that OMB approved the information collection requirements in 47 CFR 27.1412(c) introductory text, (c)(2), 27.1412(d) introductory text and (d)(1), and 27.1419, on May 5, 2020. These rules were adopted in the 3.7 GHz Report and Order, FCC 20-22, published at 85 FR 22804 on April 23, 2020, and are deemed effective on June 22, 2020. The Commission publishes this document as an announcement of the effective and compliance dates for these new information collection requirements. OMB approval for all other new or amended rules for which OMB approval is required will be requested, and the Commission will announce the effective and compliance date(s) for those rules after such approval is provided by publishing another document in the Federal Register setting forth that date (or dates). Compliance with all new or amended rules adopted in the 3.7 GHz Report and Order that do not require OMB approval will be required as of June 22, 2020, see 85 FR 22804 (Apr. 23, 2020).

“With respect to the rules covered by this announcement—i.e., those discussed herein for which OMB has already issued its approval—if you have any comments on the burden estimates listed below, or how the Commission can improve the collections and reduce any burdens caused thereby, please contact Cathy Williams, Federal Communications Commission, Room 1-C823, 445 12th Street SW, Washington, DC 20554, regarding OMB Control Number 3060-1272. Please include the OMB Control Number in your correspondence. The Commission will also accept your comments via email at PRA@fcc.gov.”

3. On page 31705, in the third column, the first sentence in the paragraph under the heading “Transition Plans” is corrected to read:

“The 3.7 GHz Report and Order calls for each eligible space station operator to submit to the Commission by June 12, 2020, and make available for public review, a detailed transition plan describing the necessary steps and estimated costs for the eligible space station operator to complete the transition of existing operations in the lower portion of the 3.7-4.2 GHz band to the upper 200 megahertz of the band and its individual timeline for doing so consistent with the regular relocation deadline or by the accelerated relocation deadlines.”

Federal Communications Commission.
Marlene Dortch,
Secretary.

[FR Doc. 2020-12250 Filed 6-24-20; 8:45 am]

BILLING CODE 6712-01-P